DEPARTMENT OF TRANSPORTATION

Federal Aviation Administration

Notice of Intent To Rule on Request To Release Airport Property at the Boulder Municipal Airport, Boulder, CO

AGENCY: Federal Aviation Administration (FAA), DOT.

ACTION: Notice of request to release airport property.

SUMMARY: The FAA proposes to rule and invite public comment on the release of land at Boulder Municipal Airport under the provisions of Section 125 of the Wendell H. Ford Aviation Investment Reform Act for the 21st Century (AIR 21), now 49 U.S.C. 47107(h)(2).

DATES: Comments must be received on or before May 3, 2013.

ADDRESSES: Comments on this application may be mailed or delivered to the FAA at the following address: Mr. John P. Bauer, Manager, Federal Aviation Administration, Northwest Mountain Region, Airports Division, Denver Airports District Office, 26805 E. 68th Avenue, Suite 224, Denver, Colorado 80249-6361.

In addition, one copy of any comments submitted to the FAA must be mailed or delivered to Mr. Tim Head, Manager, Boulder Municipal Airport, Boulder, Colorado, at the following address: Mr. Tim Head, Manager, Boulder Municipal Airport, 3300 Airport Road, Box K, Boulder, Colorado 80301.

FOR FURTHER INFORMATION CONTACT: Mr. Marc Miller, Colorado Engineer/Compliance Specialist, Federal Aviation Administration, Northwest Mountain Region, Denver Airports District Office, 26805 E. 68th Avenue, Suite 224, Denver, Colorado 80249-6361.

The request to release property may be reviewed, by appointment, in person at this same location.

SUPPLEMENTARY INFORMATION: The FAA invites public comment on the request to release property at the Boulder Municipal Airport under the provisions of the AIR 21 (49 U.S.C. 47107(h)(2)).

The FAA Modernization and Reform Act of 2012, HR 658, Section 817, gave the Secretary of Transportation the authorization to grant an airport, city, or county release from any of the terms, conditions, reservations, or restrictions contained in a deed under which the United States conveyed to the airport, city, or county an interest in real property for airport purposes pursuant to Section 16 of the Federal Airport Act (60 Stat. 179) or Section 23 of the Airport and Airway Development Act of 1970 (84 Stat. 232).

On March 18, 2013, the FAA determined that the request to release property at the Boulder Municipal Airport submitted by the City of Boulder meets the procedural requirements of the Federal Aviation Administration. The FAA may approve the request, in whole or in part, no later than May 3, 2013.

The following is a brief overview of the request:

The City of Boulder is proposing the release from the terms, conditions, reservations, and restrictions on a 2.6 acre parcel of property acquired by the City of Boulder on August 8, 1958. No FAA funds were used in its purchase and no improvements have been conducted on the parcel using FAA funds. This parcel has since been identified on the Airport Layout Plan for future release as it is not conducive to construction of improvements related to the airport due to its sloping terrain and small, narrow configuration. All proceeds from the sale of this parcel will be at fair market value, and will remain in the airport fund and will provide the airport with matching funds for FAA and state grants, in addition to improving airside infrastructure. The City will ensure that the property carries an avigation easement if sold and that no hazard will be created. As airport land, this parcel was originally zoned as “Public”. In preparation for release, this parcel was given a new zoning of “Light Industrial”, which is the closest equivalent to its “Public” previous zoned designation; thus, its potential use remains generally unchanged.

Any person may inspect, by appointment, the request in person at the FAA office listed above under FOR FURTHER INFORMATION CONTACT.

In addition, any person may, upon appointment and request, inspect the application, notice and other documents germane to the application in person at the Boulder Municipal Airport.

Issued in Denver, Colorado, on March 19, 2013.
John P. Bauer,
Manager, Denver Airports District Office.

[FR Doc. 2013-07663 Filed 4-2-13; 8:45 am]

BILLING CODE P